DEPARTMENT OF ENERGY

Federal Energy Regulatory Commission

[Docket No. RP03-273-000]

Transcontinental Gas Pipe Line Corporation; Notice of Filing

March 5, 2003.

Take notice that on February 28, 2003, Transcontinental Gas Pipe Line Corporation (Transco) tendered for filing with the Federal Energy Regulatory Commission (Commission) certain revised tariff sheets to its FERC Gas Tariff, Third Revised Volume No. 1, which sheets are enumerated in Appendix A attached thereto.

The instant filing is submitted pursuant to section 38 of the General Terms and Conditions of Transco's FERC Gas Tariff which provides that Transco will file, to be effective each April 1, a redetermination of its fuel retention percentages applicable to transportation and storage rate schedules. The derivation of the revised fuel retention percentages included therein are based on Transco's estimate of gas required for operations (GRO) for the forthcoming annual period April 2003 through March 2004 plus the balance accumulated in the Deferred GRO Account at January 31, 2003. Appendix B attached to the filing contains workpapers supporting the derivation of the revised fuel retention percentages.

Transco states that copies of the filing are being mailed to its affected customers and interested State Commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5814 Filed 3-11-03; 8:45 am]

BILLING CODE 6717-01-P